DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Quarterly Financial Report.

Form Number(s): QFR-200(MT), QFR-300(S), QFR-201(MG).

OMB Control Number: 0607-0432.

Type of Request: Revision of a currently approved collection.

Burden Hours: 92,268.

Number of Respondents: 10,707.

Average Hours per Response: 2 hours and 9 minutes.

Needs and Uses: The QFR program has published up-to-date aggregate statistics on the financial results and position of U.S. corporations since 1947. The program currently collects and publishes financial data for manufacturing, mining, wholesale and retail trade corporations. The survey is a principal economic indicator that provides financial data essential to calculation of key U.S. government measures of national economic performance. The importance of this data collection is reflected by the granting of specific authority to conduct the program in Title 13 of the United States Code, section 91, which requires that financial statistics of business operations be collected and published quarterly. Public Law 109-79, section 91 extended the authority of the Secretary of Commerce to conduct the QFR program through September 30, 2015.

This request is for a revision of the currently approved collection. The change from the previous QFR authorization is to collect data for selected services industries beginning with data for the third quarter of 2009. The proposed expansion includes all 3-digit industries in the Information sector, and all 4-digit industries, with the exception of legal services, in the Professional, Scientific, and Technical Services sector. The services sector is the largest sector in the Gross Domestic Product (GDP), representing about 55 percent of the economy. By expanding to selected service industries, the QFR program can begin providing statistics on the financial results and position for important parts of the services sector for which no data are currently available.

The survey forms used to conduct the QFR are: QFR-200 (MT) Long Form (manufacturing, mining, wholesale trade, and retail trade); QFR-201 (MG) Short Form (manufacturing); and a new form, QFR-300 (S) Long Form (services). The QFR-200 (MT) and QFR-201 (MG) have been updated to improve usability for respondents.

The primary purpose of the QFR is to provide timely, accurate data on business financial conditions for use by Government and private-sector organizations and individuals.

Affected Public: Business or other for-profit.

Frequency: Quarterly.

Respondent's Obligation: Mandatory.

Legal Authority: Title 13 U.S.C., section 91; Public Law 109-79, section 91.

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: April 29, 2009.
Glenna Mickelson,
Management Analyst, Office of the Chief Information Officer.

[FR Doc. E9-10249 Filed 5-4-09; 8:45 am]

BILLING CODE 3510-07-P